DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Board of Visitors of the U.S. Air Force Academy (hereafter referred to as the Board).

The Board is a non-discretionary federal advisory committee established by the Secretary of Defense to provide the Department of the Air Force, Committee on Armed Services of the Senate and the Committee on Armed Services of the House of Representatives independent advice and recommendations on all matters relating to the U.S. Air Force Academy, to include but not limited to morale, discipline, and social climate, the curriculum, instruction, physical equipment, fiscal affairs, academic methods and other matters relating to the Academy that the Board decides to consider. The Board, in accomplishing its mission: (a) Provided sound leadership and unwavering loyalty, and dedication to the Academy's mission; (b) provided insightful perspectives which were instrumental in establishing a renewed spirit and cultural change; (c) improved the quality and character of incoming cadets, by developing a Character and Leadership Capacity Assessment; and (d) provided advice, views, and recommendations on USAFA mission, faculty enhancement, physical and financial improvements to the USAFA facility, curriculum enhancements, increased cultural diversity among the staff and cadet population, more effective utilization of the Congressional Nomination Process, enhancement of USAFA's Strategic Vision, and increased Cadet empowerment in cadet related activities/issues.

Pursuant to 10 U.S.C. 9355(a) and (b)(2), the Board members shall be composed of 15 members: (1) Six persons designated by the President, at least two of whom shall be graduates of the Academy; (2) The chairperson of the Committee on Armed Services of the House of Representatives, or his designee; (3) Four persons designated by the Speaker of the House of Representatives, three of whom shall be members of the House of Representatives and the fourth of whom may not be a member of the House of Representatives; (4) The chairperson of the Committee on Armed Services of the Senate, or his designee; and (5) Three other members of the Senate designated by the Vice President or the President pro tempore of the Senate, two of whom are members of the Committee on Appropriations of the Senate.

Board members appointed by the Secretary of Defense, who are not federal officers or employees, shall serve as Special Government employees and shall be appointed as experts and consultants under the authority of 5 U.S.C. 3109 and with the exception of travel and per diem for official travel, shall serve without compensation, unless otherwise authorized by the Secretary of Defense.

Board Members designated by the President shall serve for three years except that any Member whose term of office has expired shall continue to serve until a successor is appointed. In addition, the President shall designate persons each year to succeed the Members whose terms expire that year. Each of the additional nine board members serves a minimum term of one year, and may continue to serve until a successor is appointed. The board Members shall select the Board chairperson and Vice Chairperson from the total membership. The Chairperson and Vice Chairperson shall serve for a period of one year commencing with the beginning of the following calendar year and until their re-election or the election of their successors.

If a member of the Board dies or resigns or is terminated as a member of the Board, a successor shall be designated for the unexpired portion of the term by the official who designated the member. If a member of the Board fails to attend two successive Board meetings, except in a case in which an absence is approved in advance for good cause by the Board chairperson, such failure shall be grounds for termination from membership on the Board. Termination of membership on the Board pursuant to 10 U.S.C. 9355(c)(2), shall in the case of a member of the Board who is not a member of Congress, may be made by the Board chairperson; and in the case of a member of the Board who is a member of Congress, may be made only by the official who designated the member. When a member of the Board is subject to termination from membership on the Board under this absenteeism provision, the Board chairperson shall notify the official who designated the member. Upon receipt of such a notification with respect to a member of the Board who is a member of Congress, the official who designated the member shall take such action as that official considers appropriate.

The Board shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Board, and shall report all their recommendations and advice to the Board for full deliberation and discussion. Subcommittees or workgroups have no authority to make decisions on behalf of the chartered Board nor can they report directly to the Department of Defense or any federal officers or employees who are not Board members.

FOR FURTHER INFORMATION CONTACT: Jim Freeman, Deputy Committee Management Officer for the Department of Defense, 703-601-6128.

SUPPLEMENTARY INFORMATION: The Board shall meet at the call of the Board's Designated Federal Officer, in consultation with the Board's chairperson. The Designated Federal Officer, pursuant to DoD policy, shall be a full-time or permanent part-time DoD employee, and shall be appointed in accordance with established DoD policies and procedures. The Designated Federal Officer or duly appointed Alternate Designated Federal Officer shall attend all Board meetings and subcommittee meetings.

Pursuant to 41 CFR 102-3.105(j) and 102-3.140, the public or interested organizations may submit written statements to the Board of Visitors of the U.S. Air Force Academy membership about the Board's mission and functions. Written statements may be submitted at any time or in response to the stated agenda of planned meeting of the Board of Visitors of the U.S. Air Force Academy.

All written statements shall be submitted to the Designated Federal Officer for the Board of Visitors of the U.S. Air Force Academy, and this individual will ensure that the written statements are provided to the membership for their consideration. Contact information for the Board of Visitors of the U.S. Air Force Academy's Designated Federal Officer can be obtained from the GSA's FACA Database— https://www.fido.gov/facadatabase/public.asp.

The Designated Federal Officer, pursuant to 41 CFR 102-3.150, will announce planned meetings of the Board of Visitors of the U.S. Air Force Academy. The Designated Federal Officer, at that time, may provide additional guidance on the submission of written statements that are in response to the stated agenda for the planned meeting in question.

September 3, 2008.
Patricia L. Toppings,
OSD Federal Register, Liaison Officer, Department of Defense.

[FR Doc. E8-21088 Filed 9-10-08; 8:45 am]

BILLING CODE 5001-06-P